DEPARTMENT OF TRANSPORTATION

Federal Railroad Administration

49 CFR Part 266

[FRA Docket No. 3R-1979-1, Notice No. 3]

RIN 2130-AA60

Local Rail Freight Assistance to States

AGENCY: Federal Railroad Administration (FRA), DOT.

ACTION: Proposed rules; withdrawal.

SUMMARY: The FRA is withdrawing a notice of proposed rulemaking (NPRM) addressing the Local Rail Freight Assistance Program. In its NPRM published on November 30, 1990, 55 FR 49648, FRA proposed to modify 49 CFR part 266, which implements the agency's Local Rail Freight Assistance Program. Since the Administration has not requested, and the Congress has not provided, any appropriations for that program since 1995, and no new appropriations are anticipated, the proposed amendments are no longer necessary.

FOR FURTHER INFORMATION CONTACT: Joseph Pomponio, Senior Attorney, Office of Chief Counsel. FRA, 1120 Vermont Avenue, NW., Washington, DC 20590.

SUPPLEMENTARY INFORMATION: Section 5 of the Department of Transportation Act (49 U.S.C. 1654 et seq.) establishes a program of federal grants to states to fund local rail freight assistance projects. The regulations implementing section 5 of the Act are contained in 49 CFR part 266. The Local Rail Service Reauthorizing Act, Public Law No. 101-213 (Dec. 11, 1989) (“Reauthorizing Act”) amended section 5 of the Act in several ways. The proposed amendment of part 266 was to reflect those amendments enacted by the Reauthorizing Act. However, the Administration has not requested, and the Congress has not provided, any appropriations for that program since 1995. As a result no new funding has been made available to recipients since that time and none is anticipated. Since no further funding is anticipated for the program, the proposed amendments to part 266 are no longer necessary.

Conclusion: Based on the foregoing, FRA is withdrawing the NPRM.

Issued in Washington, DC on March 31, 2003.
Allan Rutter,
Administrator.

[FR Doc. 03-8283 Filed 4-4-03; 8:45 am]

BILLING CODE 4910-06-P